DEPARTMENT OF STATE

[Public Notice 11667]

Notice of Department of State Sanctions Actions Pursuant to the Protecting Europe's Energy Security Act

SUMMARY: The Secretary of State has imposed sanctions on two entities and two vessels pursuant to the Protecting Europe's Energy Security Act (PEESA), as amended and Executive Order 13049.

DATES: The Secretary of State's determination regarding the two entities, and imposition of sanctions on the entities and vessels identified in the SUPPLEMENTARY INFORMATION section were effective on August 20, 2021.

FOR FURTHER INFORMATION CONTACT: Anthony Musa, mussad@state.gov, Phone: (202) 647-1925.

SUPPLEMENTARY INFORMATION: Pursuant to Section 7503(a)(1)(A) of PEESA, as amended, the Secretary of State, in consultation with the Secretary of the Treasury, shall submit every 90 days a report to the appropriate congressional committees that identifies vessels that engaged in pipe-laying or pipe-laying activities at depths of 100 feet or more below sea level for the construction of the Nord Stream 2 pipeline project, the Turkstream pipeline project, or any project that is a successor to either such project. Pursuant to Section 7503(a)(1)(B) of PEESA, as amended, the Secretary of State, in consultation with the Secretary of the Treasury shall also include in the report foreign persons that the Secretary of State, in consultation with the Secretary of the Treasury, determines have knowingly sold, leased, or provided, or facilitated selling, leasing, or providing, those vessels for the construction of such a project, and foreign persons that the Secretary of State, in consultation with the Secretary of the Treasury, determines have knowingly provided for those vessels underwriting services or insurance or reinsurance necessary or essential for the completion of such a project. Pursuant to Section 7503(c) of PEESA, as delegated, the Secretary of the Treasury, in consultation with the Secretary of State, shall exercise all powers granted to the President by the International Emergency Economic Powers Act to the extent necessary to block and prohibit all transactions in all property and interests in property of any person identified under subsection (a)(1)(B) of PEESA if such property and interests in property are in the United States, come within the United States, or are or come within the possession or control of a United States person. Pursuant to E.O. 13049, with respect to any foreign person identified by the Secretary of State, in consultation with the Secretary of the Treasury, in a report to the Congress pursuant to section 7503(a)(1)(B) of PEESA, all property and interests in property of such person that are in the United States, that hereafter come within the United States, or that are or hereafter come within the possession or control of any United States person are blocked and may not be transferred, paid, exported, withdrawn, or otherwise dealt in.

The Secretary of State has determined, pursuant to Section 7503(a)(1)(B)(i) of PEESA, as amended, that Joint Stock Company Nobility has knowingly, on or after January 1, 2021, sold, leased, or provided, or facilitated selling, leasing, or providing, a vessel that engaged in pipe-laying or pipe-laying activities at depths of 100 feet or more below sea level for the construction of the Nord Stream 2 pipeline project.

The Secretary of State has also determined, pursuant to Section 7503(a)(1)(B)(iii) of PEESA, as amended, that Konstanta, OOO has knowingly, on or after January 1, 2021, provided underwriting services or insurance or reinsurance to a vessel identified in section 7503(a)(1)(A).

Pursuant to E.O. 13049 and Section 7503(c) of PEESA, as amended, these entities have been added to the Specially Designated Nationals and Blocked Persons List. All property and interests in property of these entities subject to U.S. jurisdiction are blocked.

The following vessels subject to U.S. jurisdiction are blocked:

Ostap Sheremeta (IMO 9624225) (Linked To: Joint Stock Company Nobility)

Ivan Sidorenko (IMO 9624213) (Linked To: Joint Stock Company Nobility)

Whitney Baird,
Principal Deputy Assistant Secretary of State, Bureau of Economic and Business Affairs, Department of State.

[FR Doc. 2022-09567 Filed 5-3-22; 8:45 am]

BILLING CODE 4710-AE-P